ENVIRONMENTAL PROTECTION AGENCY

[EPA-HQ-OW-2003-0011; FRL-8197-7]

Agency Information Collection Activities; Submission to OMB for Review and Approval; Comment Request; Notice of Intent for Stormwater Discharges Associated With Construction Activity Under a NPDES General Permit, EPA ICR No. 1842.05, OMB Control No. 2040-0188

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on September 30, 2006. Under OMB regulations, the Agency may continue to conduct or sponsor the collection of information while this submission is pending at OMB. This ICR describes the nature of the information collection and its estimated burden and cost.

DATES: Additional comments may be submitted on or before August 16, 2006.

ADDRESSES: Submit your comments, referencing docket ID number EPA-HQ-OW-2003-0011, to (1) EPA online using www.regulations.gov (our preferred method), by e-mail to ow-docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Lynn Stabenfeldt, Environmental Protection Agency, 1200 Pennsylvania Ave., NW., Washington, DC 20460; telephone number: 202-564-0602; fax number: 202-501-2399; e-mail address: stabenfeldt.lynn@epa.gov.

SUPPLEMENTARY INFORMATION: EPA has submitted the following ICR to OMB for review and approval according to the procedures prescribed in 5 CFR 1320.12. On March 7, 2006 (71 FR 11401-11411), EPA sought comments on this ICR pursuant to 5 CFR 1320.8(d). EPA received one set of comments on the draft ICR. EPA's response to those comments is reflected in the ICR supporting statement. Any additional comments on this ICR should be submitted to EPA and OMB within 30 days of this notice.

EPA has established a public docket for this ICR under Docket ID No. EPA-HQ-OW-2003-0011, which is available for online viewing at www.regulations.gov, or in person viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426.

Use EPA's electronic docket and comment system at www.regulations.gov, to submit or view public comments, access the index listing of the contents of the docket, and to access those comments in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Notice of Intent for Stormwater Discharges Associated with Construction Activity Under a NPDES General Permit.

ICR Numbers: EPA ICR No. 1842.05, OMB Control No. 2040-0188.

ICR Status: This ICR is scheduled to expire on September 30, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's National Pollutant Discharge Elimination System (NPDES) Permitting Program, as authorized by the Clean Water Act (CWA), establishes regulations for the discharge of pollutants or combinations of pollutants to waters of the United States, including discharges of stormwater from construction activities disturbing five acres or more. The primary permitting mechanism for construction site operators is the Construction General Permit (CGP), issued by EPA or a state authorized to administer the NPDES Program. To obtain coverage under the CGP, a construction site operator must submit a Notice of Intent (NOI) to the permitting authority and develop a Stormwater Pollution Prevention Plan (SWPPP). The information collection and reporting activities covered in this ICR include only those activities related to completing and submitting an NOI form, developing a SWPPP, and conducting routine inspections. This ICR only covers the burden on construction sites of five or more acres, as small construction activities are addressed in the Stormwater Phase II ICR (OMB Control Number 2040-0188, EPA ICR Number 1842.05).

Burden Statement: The annual public reporting and recordkeeping burden for this collection of information is estimated to average 51.3 hours per respondent in NPDES-authorized states and 53.5 hours per respondent in states and territories where EPA is the permitting authority. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are those which have storm water discharges associated with large construction activity (40 CFR 122.25(b)(14)(x)) to waters of the U.S.

Estimated Number of Respondents: 157,546.

Frequency of Response: Once initially, prior to commencement of construction.

Estimated Total Annual Hour Burden: 8,247,638 hours.

Estimated Total Annual Cost: $375,329,979, includes $0 annualized capital or O&M costs.

Changes in the Estimates: The estimated increase in burden is 327,393 hours compared to the total estimated burden hours currently identified in the OMB Inventory of Approved ICR Burden. The increase in applicant respondent and NPDES-authorized state burden is primarily the result of one change, that being the addition of routine site inspection burden for existing large construction sites (previously not addressed in any ICR). A portion of the burden is reduced based on EPA's estimate of the number of entities affected by this information collection.

Dated: July 8, 2006.
Oscar Morales,
Director, Collection Strategies Division.

[FR Doc. E6-11251 Filed 7-14-06; 8:45 am]

BILLING CODE 6560-50-P